ENVIRONMENTAL PROTECTION AGENCY

40 CFR Part 180

[EPA-HQ-OPP-2024-0059; FRL-12480-02-OCSPP]

Pesticides; Petition Seeking Rulemaking To Modify Labeling Requirements for Pesticides and Devices; Extension of Comment Period

AGENCY: Environmental Protection Agency (EPA).

ACTION: Petition for rulemaking; extension of comment period.

SUMMARY: In the Federal Register of January 21, 2025, EPA announced the availability of and sought public comment on a petition received from the Attorneys General of the States of Nebraska, Iowa, Alabama, Arkansas, Georgia, Indiana, Louisiana, Montana, North Dakota, South Carolina, and South Dakota requesting the Agency initiate rulemaking to amend the existing pesticide labeling regulations under the Federal Insecticide, Rodenticide, and Fungicide Act (FIFRA). This document extends the comment period, which was scheduled to end on February 20, 2025, for an additional 30 days.

DATES: The comment period for the document published on January 21, 2025, at 90 FR 7037 (FRL-12480-01-OCSPP) is extended. Comments must be received on or before March 24, 2025.

ADDRESSES: Submit your comments, identified by ID number EPA-HQ-OPP-2024-0562, online at https://www.regulations.gov. Follow the online instructions for submitting comments. Do not submit electronically any information you consider to be Confidential Business Information (CBI) or other information whose disclosure is restricted by statute. Additional instructions on commenting and visiting the docket, along with more information about dockets generally, is available at https://www.epa.gov/dockets.

FOR FURTHER INFORMATION CONTACT: Charles Smith, Director, Registration Division (7505P), Office of Pesticide Programs, Environmental Protection Agency, 1200 Pennsylvania Ave. NW, Washington, DC 20460-0001; main telephone number: (202) 566-1030; email address: RDFRNotices@epa.gov.

SUPPLEMENTARY INFORMATION: To give stakeholders additional time to review materials and prepare comments, EPA is hereby extending the comment period established in the Federal Register document of January 21, 2025, at 90 FR 7037 (FRL-12480-01-OCSPP) for 30 days, from on February 20, 2025, to March 24, 2025 (adjusted to account for the weekend). More information on the action can be found in the Federal Register of January 21, 2025.

To submit comments or access the docket, please follow the detailed instructions provided under ADDRESSES. If you have questions, consult the person listed under FOR FURTHER INFORMATION CONTACT.

Authority: 7 U.S.C. 136 et seq.

Dated: February 14, 2025.
Edward Messina,
Director, Office of Pesticide Programs.

[FR Doc. 2025-02856 Filed 2-19-25; 8:45 am]

BILLING CODE 6560-50-P